DEPARTMENT OF THE INTERIOR

Fish and Wildlife Service

Bureau of Reclamation

Trinity River Mainstem Fishery Restoration Program

AGENCY: Fish and Wildlife Service and Bureau of Reclamation, Interior.

ACTION: Notice of intent to prepare a Supplemental Environmental Impact Statement/Supplemental Draft Environmental Impact Report (SEIS/SDEIR).

SUMMARY: The Fish and Wildlife Service (FWS) and the Bureau of Reclamation (Reclamation), along with the Hoopa Valley Tribe and Trinity County, California are preparing a Supplemental Environmental Impact Statement/Supplemental Draft Environmental Impact Report for the Trinity River Mainstem Fishery Restoration Program (Program). The purpose of the SEIS/SDEIR is to analyze the effects of two biological opinions associated with the Program issued on October 12, 2000, one by the FWS and the other by the National Marine Fisheries Service of the Department of Commerce (NMFS), on Central Valley Project (CVP) operations and the effects of the Program on energy generation within the context of the state of deregulation and supply uncertainty for electricity within California.

A final environmental impact statement (EIS) on the Program was issued in November, 2000, and a Record of Decision (ROD) executed on December 19, 2000. Central Valley water and power interests filed suit seeking to enjoin implementation of the ROD. On March 22, 2001, the court issued a Memorandum Decision and Order enjoining the federal defendants from implementing any of the flow related aspects of the ROD. Westlands Water District v. United States Department of the Interior, CIV-F-00-7124-OWW/DLB (E.D. Calif., filed May 3, 2001). In its Memorandum Decision and Order the court found that the effects of reasonable and prudent measures in the two biological opinions as well as the effects on power in light of the California energy crisis, were not adequately analyzed in the EIS. The federal agencies are now seeking to address these issues in a SEIS and are soliciting public input and comment on this process.

The overall objective of the Program is to meet Federal trust responsibilities for tribal fishery resources and restore the fisheries in the Trinity River basin to the level that existed prior to the construction of the Trinity River Division (TRD) of the CVP. These actions are authorized by the Act of August 12, 1955, 69 Stat. 719; the Trinity River Basin Fish and Wildlife Management Act, Public Law 98-541 (1984), as amended, and the Central Valley Project Improvement Act, Public Law 102-575, Title XXXIV (1992) (CVPIA). The FWS and Reclamation are the federal co-leads for purposes of complying with National Environmental Policy Act (NEPA); along with Hoopa Valley Tribe, which is also acting in a co-lead agency role. Trinity County functions as the state lead agency for purposes of complying with the California Environmental Quality Act (CEQA).

The purpose for the October 2000 EIS/EIR is as follows: to restore and maintain the natural production of anadromous fish on the Trinity River mainstem downstream of Lewiston Dam. The purpose of the SEIS/SEIR will be the same.

DATES: A scoping meeting will be held on Thursday, May 9, 2002, from 1:30 to 4:30 p.m. in Redding, California, to solicit public input on alternatives, concerns, and issues to be addressed in the SEIS/SDEIR.

Written comments on the scope of the SEIS/SDEIR may be mailed to Reclamation at the address below by May 23, 2002. Comments received after this date will be considered but may not be included in the resulting SEIS/SDEIR scoping report.

ADDRESSES: The scoping meeting will be held at the Holiday Inn, 1900 Hilltop Drive, Redding, CA 96002.

Written comments on the scope of the SEIS/SDEIR should be sent to Mr. Russell Smith, Bureau of Reclamation, Shasta Dam Office, 16349 Shasta Dam Boulevard, Shasta Lake CA 96019; telephone: (530) 275-1554; fax (530) 275-2441.

FOR FURTHER INFORMATION CONTACT: Mr. Russell Smith at the above address or by telephone at (530) 275-1554.

SUPPLEMENTARY INFORMATION: In 1983 an EIS on the Trinity River Basin Fish and Wildlife Management Program was prepared by the FWS (U.S. Fish and Wildlife Service, 1983). The environmental document analyzed habitat restoration actions, watershed rehabilitation, and improvements to the Trinity River Salmon and Steelhead Hatchery (TRSSH). The EIS clarified that the hatchery's purpose was to mitigate for the loss of the 109 miles of habitat upstream of Lewiston Dam; whereas, the restoration and rehabilitation projects were explicitly designed to increase natural fish production below the dam.

In 1984, the Trinity River Basin Fish and Wildlife Management Act (Public Law 98-541) was enacted. It formalized the existence of the Trinity River Basin Fish and Wildlife Task Force (Task Force), and directed the Secretary of the Interior (Secretary) to implement measures to restore fish and wildlife habitat in the Trinity River. The Task Force was directed at implementation of a fish and wildlife management program “to restore natural fish and wildlife populations to levels approximating those which existed immediately prior to the construction of the Trinity Division.” In 1996 Congress re-authorized and amended the original Trinity River Basin Fish and Wildlife Management Act (Public Law 104-143). The 1996 amendments clarified that “restoration is to be measured not only by returning adult anadromous fish spawners, but by the ability of dependent tribal, commercial, and sport fisheries to participate fully, through enhanced in-river and ocean harvest opportunities, in the benefits of restoration * * * ”.

In 1992 Congress passed the CVPIA (Public Law 102-575, Title XXXIV) in order to protect, restore, and enhance fish, wildlife, and associated habitats in the Central Valley, including the Trinity River Basin. Specifically, the CVPIA provides at section 3406(b)(23) that “[i]n order to meet Federal trust responsibilities to protect the fishery resources of the Hoopa Valley Tribe and meet the fishery restoration goals' of Public Law 98-541, the Secretary is directed to complete the Trinity River Flow Evaluation Study (TRFES) and to develop recommendations “based on the best available scientific data, regarding permanent instream fishery flow requirements and TRD operating criteria and procedures for the restoration and maintenance of the Trinity River fishery.” The CVPIA also specifically provided for the Secretary to consult with the Hoopa Valley Tribe on the TRFES and, upon the Tribe's concurrence, to implement the restoration recommendations accordingly.

A joint EIS/EIR, for the Trinity River Mainstem Fishery Restoration Program (TRMFRP) was prepared by the FWS, Reclamation, Trinity County, and the Hoopa Valley Tribe, and was completed in October, 2000. A ROD selecting the alternative to be implemented for the TRMFRP, was signed by the Secretary, with the concurrence of the Hoopa Valley Tribe, pursuant to section 3406(b)(23) of the CVPIA, and issued in December 2000. However, the EIR was not certified by Trinity County and it is not a finalized document under CEQA.

Subsequent to execution of the ROD, water and power interests in the Central Valley of California amended a previously filed lawsuit against the federal agencies materially involved in either the decision making process for the ROD or the associated Endangered Species Act approvals for the TRMFRP (Reclamation, FWS, and NMFS), in federal district court. Plaintiffs sought, and were granted a preliminary injunction for implementation of the flow related aspects of the ROD. The terms of the injunction limit the increase in flows in the Trinity River which may be implemented in the ROD, but allow the Secretary to proceed with all other activities approved by the ROD. Westlands Water District v. United States Department of the Interior, CIV-F-00-7124-OWW/DLB (E.D. Calif., filed May 3, 2001). Subsequently, the plaintiff and plaintiff-intervenors and federal defendants, but not defendant-intervenors Hoopa Valley and Yurok Tribes, jointly agreed to stay the case, pending the development of a supplemental NEPA document that would address the issues identified by the Westlands court as requiring further analysis; including the effect that the change in operations of the TRD would have within the context of deregulation of electrical utilities in California and the effects that compliance with the biological opinions issued by the FWS and NMFS would have upon CVP operations.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: March 19, 2002.
Frank Michny,
Regional Environmental Officer, Mid-Pacific Region, Bureau of Reclamation.
Dated: March 19, 2002.
Mary Ellen Mueller,
Fisheries Supervisor, California and Nevada Operations Office, Fish and Wildlife Service.

[FR Doc. 02-7066 Filed 3-22-02; 8:45 am]

BILLING CODE 4310-MN-P